DEPARTMENT OF EDUCATION

National Assessment Governing Board

National Assessment Governing Board; Meetings

AGENCY: National Assessment Governing Board, U.S. Department of Education.

ACTION: Notice of virtual meetings.

SUMMARY: The National Assessment Governing Board (hereafter referred to as Governing Board) announces two virtual meetings that are scheduled on June 29, 2020. The meeting will have two sessions—a closed session which is not open to the public, followed by a session open to the public via video and audio access. This notice sets forth the agenda for the two meetings and meeting participation information. Notice of the meeting is required under § 10(a)(2) of the Federal Advisory Committee Act (FACA).

DATES: Dates and Times:

June 29, 2020: National Assessment Governing Board Meetings.

Session 1: Closed meeting: 2:00 p.m. to 4:00 p.m. Eastern Time (ET).

Session 2: Open meeting: 4:00 p.m. to 5:00 p.m. Eastern Time (ET).

ADDRESSES: Virtual Meetings.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION:

Statutory Authority and Function: The Governing Board is established under the National Assessment of Educational Progress Authorization Act, Title III of Public Law 107-279. The Governing Board is established to formulate policy for NAEP, which is administered by the National Center for Education Statistics (NCES). The Governing Board's responsibilities include the following: Selecting subject areas to be assessed, developing assessment frameworks and specifications, developing appropriate student achievement levels for each grade and subject tested, developing standards and procedures for state and national comparisons, improving the form and use of NAEP, developing guidelines for reporting and disseminating results, and releasing initial NAEP results to the public. Governing Board members serve 4-year terms, subject to renewal for another 4 years, at the discretion of the Secretary of Education.

Meeting Agenda

On Monday, June 29, 2020, the Governing Board will convene virtually in closed session from 2:00 p.m. to 4:00 p.m. to discuss independent cost estimates related to the impact of the COVID-19 pandemic on the NAEP 2021 operations and subsequent potential impacts on the NAEP budget and assessment schedule. The Board will receive a briefing from Peggy Carr, Associate Commissioner, NCES, on cost implications which will involve reviewing the government's independent cost estimates for possibly revising the national assessment activities. These discussions may impact current and future NAEP contracts and budgets and must be kept confidential. Public disclosure of this confidential information would significantly impede implementation of the NAEP assessment program if conducted in open session. Such matters are protected by exemption 9(B) of § 552b(c) of Title 5 of the United States Code.

Following the closed session, on Monday, June 29, 2020, the Governing Board will convene virtually in open session from 4:00 p.m. to 5:00 p.m. ET. The meeting will begin with Governing Board Chair Haley Barbour's review of the meeting agenda and a summary of the policy issues the Governing Board will need to consider in reviewing the impact of COVID-19 on the NAEP 2021 planned assessments. This session will be informed by discussions led by Peggy Carr, Associate Commissioner, NCES, and Lesley Muldoon, Governing Board Executive Director followed by Governing Board discussion. The Chair then will provide closing remarks and highlight next steps on plans for the 2021 NAEP Schedule of Assessments. The meeting will adjourn at 5:00 p.m. ET.

Public Participation: The open session of the Governing Board meeting is open to the public through advance registration. Virtual public participation is available with view access, along with an audio option for listening. The Governing Board is empowered to conduct the virtual meeting in a manner that will facilitate the orderly conduct of business and accomplish meeting objectives in a timely manner. A link to the registration page will be posted on the Governing Board's website https://www.nagb.gov no later than 5 working days prior to the meetings. Members of the public who need additional information on the meeting may contact Munira Mwalimu at the address or telephone number listed above.

Access to Records of the Meeting: Pursuant to FACA requirements, the public may access the meeting agenda for the open session of the June 29 meeting of the Governing Board at https://www.nagb.gov no later than June 25, 2020.

Reasonable Accommodations: The Governing Board website is accessible to individuals with disabilities. If you will need an auxiliary aid or service to participate in the meeting (e.g., interpreting service, assistive listening device, or materials in an alternate format), please notify the contact person listed in this notice no later than June 22, 2020. Written comments related to the work of the Governing Board may be submitted electronically or in hard copy to the attention of the Executive Officer/Designated Federal Official (see contact information noted above). Information on the Governing Board and its work can be found at www.nagb.gov.

Electronic Access to this Document: The official version of this document is the document published in the Federal Register. Internet access to the official edition of the Federal Register and the Code of Federal Regulations is available via the Federal Digital System at: www.gpo.gov/fdsys. This site allows the public to view this document, as well as all other documents of this Department published in the Federal Register, in text or Adobe Portable Document Format (PDF). To use PDF, you must have Adobe Acrobat Reader, which is available free at the Adobe website. You may also access documents of the Department published in the Federal Register by using the article search feature at: www.federalregister.gov. Specifically, the advanced search feature at this site allow searches to documents published by the Department.

Authority: Pub. L. 107-279, Title III—National Assessment of Educational Progress § 301.

Lesley Muldoon,
Executive Director, National Assessment Governing Board (NAGB), U.S. Department of Education.

[FR Doc. 2020-12952 Filed 6-15-20; 8:45 am]

BILLING CODE P